DEPARTMENT OF TRANSPORTATION

Federal Aviation Administration

14 CFR Part 71

[Docket No. FAA-2022-1027; Airspace Docket No. 21-AEA-33; Docket No. FAA-2022-0905; Airspace Docket No. 21-AEA-26]

RIN 2120-AA66

Amendment and Revocation of VOR Federal Airways; Eastern United States Amendment and Revocation of VOR Federal Airways; Northeast United States

AGENCY: Federal Aviation Administration (FAA), DOT.

ACTION: Final rule.

SUMMARY: This action amends four Very High Frequency (VHF) Omnidirectional Range (VOR) Federal airways (V-33, V-157, V-213, and V-433) in support of the FAA's VOR Minimum Operational Network (MON) program.

DATES: Effective date 0901 UTC, August 10, 2023. The Director of the Federal Register approves this incorporation by reference action under 1 CFR part 51, subject to the annual revision of FAA Order JO 7400.11 and publication of conforming amendments.

ADDRESSES: A copy of the notices of proposed rulemaking (NPRM), all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

History

The FAA published an NPRM for Docket No. FAA-2022-1027 in the Federal Register (87 FR 52710; August 29, 2022) proposing to remove VOR Federal airways V-46, V-91, V-270, V-273, and V-499; and to amend VOR Federal airways V-123, V-157, V-213, V-433, and V-483. Interested parties were invited to participate in this rulemaking effort by submitting written comments on the proposal. The FAA received one comment but it was outside the scope of this rulemaking.

In a previous NPRM, Docket No. FAA-2022-0905 in the Federal Register (87 FR 43759; July 22, 2022), the FAA had proposed to amend VOR Federal airway V-10, and remove airways V-33, V-99, V-377, V-403, and V-405. No comments were received.

To streamline the publication of final rules in both dockets, the FAA decided to combine the amendments for airway V-33 with the amendments proposed for Docket No. FAA-2022-1027. This final rule does not address the removal and amendments to Federal airway V-10, V-99, V-377, V-403, and V-405 proposed in Docket No. FAA-2022-0905. Those proposed changes will be addressed in a separate final rule document.

Differences From the NPRMs

In Docket No. FAA-2022-1027, the FAA proposed to remove V-46, V-91, V-270, V-273, and V-499; and to amend V-123, V-157, V-213, V-433, and V-483. Due to staffing and training limitations, this final rule will not remove V-46, V-91, V-123, V-270, V-273, and V-483, or amend V-499 at this time.

The NPRM proposed to amend V-433 by removing the segments from Nottingham, MD to Bridgeport, CT in support of the planned decommissioning of the Nottingham, MD (OTT), VOR withTactical Air Navigational System (VORTAC), the Patuxent, MD (PXT), VORTAC and the Bridgeport, CT (BDR), VOR/Distance Measuring Equipment (DME). The Bridgeport VOR/DME decommissioning is not planned until a later fiscal year, therefore the FAA will retain the airway segments from Dupont, DE, to Bridgeport, CT, to provide continued availability of V-433 along those segments.

In Docket No. FAA-2022-0905, the FAA proposed to amend VOR Federal airway V-10, and remove airways V-33, V-99, V-377, V-403, and V-405. Subsequently, the FAA decided to remove only the route segments from Harcum, VA, to Nottingham, MD, and to retain the segments of V-33 that extend from Baltimore, MD, to Keating, PA.

Incorporation by Reference

Domestic VOR Federal airways are published in paragraph 6010(a) of FAA Order JO 7400.11G, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by amending VOR Federal airways V-33, V-157, V-213, and V-433. The route changes are as follows:

V-33: V-33 consists of two parts: between Harcum, VA, and Nottingham, MD; and between Baltimore, MD, and Keating, PA. This action removes the segments between Harcum, VA, and Nottingham, MD. As amended, V-33 extends between Baltimore, MD, and Keating, PA. The words “The airspace within R-4007 is excluded” are removed from the route description because the amended route no longer passes near restricted area R-4007.

V-157: V-157 extends from Key West, FL, to Albany, NY. This action removes the segment from Richmond, VA, to Robbinsville, NJ. As a result, V-157 consists of two parts: from Key West, FL, to Richmond, VA; and from Robbinsville, NJ to Albany, NY. This change supports the decommissioning of the Patuxent, MD (PXT), VORTAC. With the removal of the above segment, the words “The airspace within R-4005, R-4006, and R-4007A, and R-6602A is excluded” are no longer required in the description. The exclusion of restricted area R-6602A is amended to read “R-6602A, B, and C when active.”

V-213: V-213 extends from Grand Strand, SC, to Albany, NY. This action removes the segment that extends between Hopewell, VA, and Smyrna, DE. As a result, V-213 consists of two parts: from Grand Strand, SC to Hopewell, VA; and from Smyrna, DE to Albany, NY. The words “The airspace within R-4005 and R-4006 is excluded” are removed because the amended route no longer passes near the restricted areas.

V-433: V-433 extends from Nottingham, MD, to Syracuse, NY. This action removes the segments from Nottingham, MD, to Dupont, DE, in support of the planned decommissioning of the Nottingham, MD (OTT), VORTAC. As amended, V-433 extends from Dupont, DE, to Syracuse, NY.

The full descriptions of the above routes are listed in the amendments to part 71 set forth below.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal airways V-33, V-157, V-213, and V-433 in eastern United States qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G Airspace Designations and Reporting Points, dated August 19, 2022, and effective September 15, 2022, is amended as follows:

Paragraph 6010(a) Domestic VOR Federal Airways.

* * * * *

V-33 [Amended]

From Baltimore, MD; INT Baltimore 004° and Harrisburg, PA, 147° radials; Harrisburg; Philipsburg, PA; Keating, PA.

* * * * *

V-157 [Amended]

From Key West, FL; INT Key West 038° and Dolphin, FL, 244° radials; Dolphin; INT Dolphin 331° and La Belle, FL, 113° radials; La Belle; Lakeland, FL; Ocala, FL; INT Ocala 346° and Taylor, FL, 170° radials; Taylor; Waycross, GA; Alma, GA; Allendale, SC; Vance, SC; Florence, SC; Fayetteville, NC; Kinston, NC; Tar River, NC; Lawrenceville, VA; to Richmond, VA. From Robbinsville, NJ; INT Robbinsville 044° and LaGuardia, NY, 213° radials; LaGuardia; INT LaGuardia 032°and Deer Park, NY, 326° radials; INT Deer Park 326° and Kingston, NY, 191° radials; Kingston, NY; to Albany, NY. The airspace within R-6602A, B, and C is excluded when active.

* * * * *

V-213 [Amended]

From Grand Strand, SC, via Wilmington, NC; INT Wilmington 352° and Tar River, NC, 191° radials; Tar River; to Hopewell, VA. From Smyrna, DE; INT Smyrna 035° and Robbinsville, NJ, 228° radials; Robbinsville; INT Robbinsville 014° and Sparta, NJ, 174° radials; Sparta; to Albany, NY.

* * * * *

V-433 [Amended]

From Dupont, DE; Yardley, PA; INT Yardley 047° and Kennedy, NY, 253° radials; INT Kennedy 253° and LaGuardia, NY, 213° radials; LaGuardia; Bridgeport, CT; INT Bridgeport 324° and Pawling, NY, 160° radials; Pawling; INT Pawling 304° and Rockdale, NY, 116° radials; Rockdale; INT Rockdale 325° and Syracuse, NY, 100° radials; to Syracuse.

* * * * *

Issued in Washington, DC, on May 9, 2023.
Brian Konie,
Acting Manager, Airspace Rules and Regulations.

[FR Doc. 2023-10283 Filed 5-12-23; 8:45 am]

BILLING CODE 4910-13-P